DEPARTMENT OF TRANSPORTATION

Federal Aviation Administration

14 CFR Part 39

[Docket No. FAA-2012-0330; Directorate Identifier 2011-NM-116-AD; Amendment 39-17103; AD 2012-13-01]

RIN 2120-AA64

Airworthiness Directives; Saab AB, Saab Aerosystems Airplanes

AGENCY: Federal Aviation Administration (FAA), Department of Transportation (DOT).

ACTION: Final rule.

SUMMARY: We are adopting a new airworthiness directive (AD) for all Saab AB, Saab Aerosystems Model 340A (SAAB/SF340A) and SAAB 340B airplanes. This AD was prompted by reports indicating that wear of the elevator pushrods has occurred on some airplanes after extended time in service. This AD requires determining if a certain part number is installed, performing a detailed inspection for individual play between the elevator pushrod assembly and degradation of elevator pushrod assembly, and replacing the affected elevator pushrod assembly with a new elevator pushrod assembly if necessary. We are issuing this AD to prevent a free elevator from affecting the pitch control authority, which may result in reduced controllability of the airplane.

DATES: This AD becomes effective August 2, 2012.

The Director of the Federal Register approved the incorporation by reference of a certain publication listed in this AD as of August 2, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Shahram Daneshmandi, Aerospace Engineer, International Branch, ANM-116, Transport Airplane Directorate, FAA, 1601 Lind Avenue SW., Renton, Washington 98057-3356; telephone (425) 227-1112; fax (425) 227-1149.

SUPPLEMENTARY INFORMATION:

Discussion

We issued a notice of proposed rulemaking (NPRM) to amend 14 CFR part 39 to include an AD that would apply to the specified products. That NPRM was published in the Federal Register on April 2, 2012 (77 FR 19565). That NPRM proposed to correct an unsafe condition for the specified products. The MCAI states:

Field experience has indicated that wear of the elevator pushrod has occurred on some aeroplanes after extended time in service. Although properly installed, the locknut has been able to back off within a limited range, leading to degradation of the pushrod which causes backlash in between the rod end threads.

This condition, if not detected and corrected, may lead to a free elevator affecting the pitch control authority, possibly resulting in reduced control of the aeroplane.

To address this unsafe condition, SAAB AB Aeronautics have issued Service Bulletin (SB) 340-27-100, accomplishment of which will reduce the probability for backlash and minimize the possibility of failure in the pitch control system.

For the reasons described above, this [EASA] AD requires the identification of the pushrod assembly Part Number (P/N) as installed on the aeroplane, replacement of P/N TDF11755 pushrod assemblies, inspection of P/N 12003-33 and P/N R20990 elevator pushrod assemblies [for individual play between the elevator pushrod assembly and degradation of elevator pushrod assembly] and corrective actions [replacement], depending on findings.

You may obtain further information by examining the MCAI in the AD docket.

Comments

We gave the public the opportunity to participate in developing this AD. We received no comments on the NPRM (77 FR 19565, April 2, 2012) or on the determination of the cost to the public.

Conclusion

We reviewed the available data and determined that air safety and the public interest require adopting the AD as proposed.

Costs of Compliance

We estimate that this AD will affect 162 products of U.S. registry. We also estimate that it will take about 1 work-hour per product to comply with the basic requirements of this AD. The average labor rate is $85 per work-hour. Based on these figures, we estimate the cost of this AD to the U.S. operators to be $13,770, or $85 per product.

In addition, we estimate that any necessary follow-on actions would take about 7 work-hours and require parts costing $1,588 for a cost of $2,183 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 19565, April 2, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-13-01 Saab AB, Saab Aerosystems: Amendment 39-17103. Docket No. FAA-2012-0330; Directorate Identifier 2011-NM-116-AD.

(a) Effective Date

This airworthiness directive (AD) becomes effective August 2, 2012.

(b) Affected ADs

None.

(c) Applicability

This AD applies to Saab AB, Saab Aerosystems Model 340A (SAAB/SF340A) and SAAB 340B airplanes, certificated in any category, all serial numbers.

(d) Subject

Air Transport Association (ATA) of America Code 27: Flight Controls.

(e) Reason

This AD was prompted by reports indicating that wear of the elevator pushrods has occurred on some airplanes after extended time in service. We are issuing this AD to prevent a free elevator from affecting the pitch control authority, which may result in reduced controllability of the airplane.

(f) Compliance

You are responsible for having the actions required by this AD performed within the compliance times specified, unless the actions have already been done.

(g) Inspection To Determine the Part Number

Within the applicable time specified in table 1 of this AD, inspect each elevator pushrod assembly to determine the part number (P/N).

(1) If a P/N TDF11755 elevator pushrod assembly is installed, or if the part number cannot be determined: Before further flight, replace the affected elevator pushrod assembly with a P/N R20990 elevator pushrod assembly, in accordance with the Accomplishment Instructions of Saab Service Bulletin 340-27-100, dated February 1, 2011.

(2) If a P/N 12003-33 or P/N R20990 elevator pushrod assembly is installed: Do a detailed inspection for individual play between the rod end and the pushrod at the locking device and degradation of the elevator pushrod assembly (including rod end threads not visible through the inspection hole in the pushrod, and the nut and locking device not properly locked with the lock wire), in accordance with the Accomplishment Instructions of Saab Service Bulletin 340-27-100, dated February 1, 2011.

Table 1—Compliance Times
Total flight hours accumulated as of the effective date of this AD | Compliance time
For airplanes with 30,000 total flight hours or more | Within 6 months after the effective date of this AD.
For airplanes with 28,000 total flight hours or more, but less than 30,000 total flight hours | Before the accumulation of 30,000 total flight hours or within 6 months after the effective date of this AD, whichever occurs later.
For airplanes with less than 28,000 total flight hours | Before the accumulation of 30,000 total flight hours.

(h) Corrective Action

If, during the inspection of the elevator pushrod assembly required by paragraph (g)(2) of this AD, individual play between the rod end and the pushrod at the locking device, or degradation of the elevator pushrod assembly (including rod end threads not visible through the inspection hole in the pushrod, and the nut and locking device not properly locked with the lock wire) is found: Before further flight, replace the affected elevator pushrod assembly with a new elevator pushrod assembly, P/N R20990, in accordance with the Accomplishment Instructions of Saab Service Bulletin 340-27-100, dated February 1, 2011.

(i) Parts Installation

As of the effective date of this AD, no person may install an elevator pushrod assembly with P/N TDF11755, on any airplane.

(j) Reporting Requirement

Submit a report of the findings (both positive and negative) of the inspection and replacement required by paragraphs (g) and (h) of this AD to Saab AB, Support and Services, SE-581 88 Linköping, Sweden; fax +46 13 18 48 74; email saab340.techsupport@saabgroup.com; at the applicable time specified in paragraph (j)(1) or (j)(2) of this AD.

(1) If the inspection was done on or after the effective date of this AD: Submit the report within 30 days after the inspection.

(2) If the inspection was done before the effective date of this AD: Submit the report within 30 days after the effective date of this AD.

(k) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Shahram Daneshmandi, Aerospace Engineer, International Branch, ANM-116, Transport Airplane Directorate, FAA, 1601 Lind Avenue SW., Renton, Washington 98057-3356; telephone (425) 227-1112; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(l) Related Information

Refer to MCAI European Aviation Safety Agency Airworthiness Directive 2011-0078, dated May 5, 2011; and Saab Service Bulletin 340-27-100, dated February 1, 2011; for related information.

(m) Material Incorporated by Reference

(1) The Director of the Federal Register approved the incorporation by reference (IBR) of the following service information under 5 U.S.C. 552(a) and 1 CFR part 51.

(2) You must use the following service information to do the actions required by this AD, unless the AD specifies otherwise.

(i) Saab Service Bulletin 340-27-100, dated February 1, 2011.

(3) For service information identified in this AD, contact Saab AB, Saab Aerosystems, SE-581 88, Linköping, Sweden; telephone +46 13 18 5591; fax +46 13 18 4874; email saab2000.techsupport@saabgroup.com; Internet http://www.saabgroup.com.

(4) You may review copies of the service information at the FAA, Transport Airplane Directorate, 1601 Lind Avenue SW., Renton, Washington. For information on the availability of this material at the FAA, call 425-227-1221.

(5) You may also review copies of the service information that is incorporated by reference at the National Archives and Records Administration (NARA). For information on the availability of this material at an NARA facility, call 202-741-6030, or go to http://www.archives.gov/federal_register/code_of_federal_regulations/ibr_locations.html.

Issued in Renton, Washington, on June 15, 2012.
Kalene C. Yanamura,
Acting Manager, Transport Airplane Directorate, Aircraft Certification Service.

[FR Doc. 2012-15426 Filed 6-27-12; 8:45 am]

BILLING CODE 4910-13-P